DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Response to Office Action and Voluntary Amendment Forms.

Form Number(s): PTO 1771, 1822, 1957, 1960, and 1966.

Agency Approval Number: 0651-0050.

Type of Request: Extension of a currently approved collection.

Burden: 132,122 hours annually.

Number of Respondents: 271,783 responses per year.

Avg. Hours per Response: The USPTO estimates that it will take the public approximately 10 to 40 minutes (0.17 to 0.67 hours) to complete the submission, depending on the request. This includes time to gather the necessary information, prepare the responses, substitute applications, amendments, petitions, or additional papers, and submit the completed request to the USPTO, depending on the complexity of the situation.

Needs and Uses: This information is required by the Trademark Act of 1946, Sections 1, 3, 4, 6, 11, 12, 23, 26, 27, 44, and, 60, 15 U.S.C. 1051, 1053, 1054, 1056, 1061, 1062, 1091, 1094, 1095, 1126 and 1141, respectively. The information in this collection is a matter of public record and is used by the public for a variety of private business purposes related to establishing and enforcing trademark rights. This information is important to the public, as both common-law trademark owners and Federal trademark registrants must actively protect their own rights. This collection includes the information needed by the USPTO to review the various types of responses, substitute applications, amendments, petitions and other papers filed in connection with applications for registration.

Affected Public: Businesses or other for-profits or non-profit institutions.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0050 copy request” in the subject line of the message.

• Mail: Susan K. Fawcett, Records Officer, Office of the Chief Information Officer, United States Patent and Trademark Office, P.O. Box 1450, Alexandria, VA 22313-1450.

Written comments and recommendations for the proposed information collection should be sent on or before June 27, 2014 to Nicholas A. Fraser, OMB Desk Officer, via email to Nicholas_A_Fraser@omb.eop.gov or by fax to 202-395-5167, marked to the attention of Nicholas A. Fraser.

Dated: May 21, 2014.
Susan K. Fawcett,
Records Officer, USPTO, Office of the Chief Information Officer.

[FR Doc. 2014-12188 Filed 5-27-14; 8:45 am]

BILLING CODE 3510-16-P